NATIONAL SCIENCE FOUNDATION

Agency Information Collection Activities: Comment Request

AGENCY: National Center for Science and Engineering Statistics, National Science Foundation.

ACTION: Notice.

SUMMARY: The National Center for Science and Engineering Statistics (NCSES) within the National Science Foundation (NSF), as the Standard Application Process (SAP) Program Management Office designated by the Office of Management and Budget (OMB), is announcing plans to establish a common form information collection. NCSES will request approval for an SAP Portal information collection as a Common Form to permit other federal agency users to streamline the information collection in coordination with OMB. The purpose of this notice is to allow for 60 days of public comment on the proposed SAP Portal information collection as a Common Form, prior to the submission of the information collection request (ICR) to OMB for approval.

DATES: Written comments on this notice must be received by October 31, 2022 to be assured of consideration. Comments received after that date will be considered to the extent practicable. Send comments to the address below.

Comments: Comments are invited on (a) whether the proposed collection of information is necessary for the proper performance of the functions of the federal statistical agencies, including whether the information will have practical utility; (b) the accuracy of the NSF's estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

FOR FURTHER INFORMATION CONTACT: Suzanne H. Plimpton, Reports Clearance Officer, National Science Foundation, 2415 Eisenhower Avenue, Suite W18253, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: The Foundations for Evidence-Based Policymaking Act of 2018 mandates that OMB establish a Standard Application Process (SAP) for requesting access to certain confidential data assets. While the adoption of the SAP is required for statistical agencies and units designated under CIPSEA, it is recognized that other agencies and organizational units within the Executive branch may benefit from the adoption of the SAP to accept applications for access to confidential data assets. The SAP is to be a process through which agencies, the Congressional Budget Office, State, local, and Tribal governments, researchers, and other individuals, as appropriate, may apply to access confidential data assets held by a federal statistical agency or unit for the purposes of developing evidence. With the Interagency Council on Statistical Policy (ICSP) as advisors, the entities upon whom this requirement is levied are working with the SAP Project Management Office (PMO) and with OMB to implement the SAP. The SAP Portal is to be a single web-based common application for the public to request access to confidential data assets from federal statistical agencies and units. In accordance with the requirements of the Paperwork Reduction Act of 1995, NCSES is providing an opportunity for public comment on this action. After obtaining and considering public comment, NCSES will prepare the submission requesting that OMB approve clearance of this collection for three years.

This request is on behalf of the following federal statistical agencies and units, which may use the Common Form:

• Bureau of Economic Analysis (Department of Commerce)

• Bureau of Justice Statistics (Department of Justice)

• Bureau of Labor Statistics (Department of Labor)

• Bureau of Transportation Statistics (Department of Transportation)

• Census Bureau (Department of Commerce)

• Economic Research Service (Department of Agriculture)

• Energy Information Administration (Department of Energy)

• National Agricultural Statistics Service (Department of Agriculture)

• National Center for Education Statistics (Department of Education)

• National Center for Health Statistics (Department of Health and Human Services)

• National Center for Science and Engineering Statistics (National Science Foundation)

• Office of Research, Evaluation, and Statistics (Social Security Administration)

• Statistics of Income Division (Income Revenue Service)

• Microeconomic Surveys Unit (Federal Reserve Board)

• Center for Behavioral Health Statistics and Quality (Department of Health and Human Services)

• National Animal Health Monitoring System (Department of Agriculture)

Title of collection: Standard Application Process (SAP) Portal.

OMB Control Number: 3145-NEW.

Expiration Date of Current Approval: Not Applicable.

Type of Request: Intent to seek approval to collect information from the public through the Standard Application Process (SAP) Portal, as a Common Form.

Abstract: Established within the NSF by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public.

Title III of the Foundations for Evidence-Based Policymaking Act of 2018 (hereafter referred to as the Evidence Act) mandates that OMB establish a Standard Application Process (SAP) for requesting access to certain confidential data assets. Specifically, the Evidence Act requires OMB to establish a common application process through which agencies, the Congressional Budget Office, State, local, and Tribal governments, researchers, and other individuals, as appropriate, may apply for access to confidential data assets collected, accessed, or acquired by a statistical agency or unit. This new process will be implemented while maintaining stringent controls to protect confidentiality and privacy, as required by the law.

The Evidence Act requires that each statistical agency or unit establish an identical application process. The Evidence Act further requires that federal statistical agencies establish common criteria for determining whether to approve an application for confidential data, timeframes for prompt determination, an appeals process for adverse determinations, and standards for transparency. In response to these requirements, the statistical agencies and units will operate a web-based portal (referred to as the SAP Portal) on behalf of OMB to provide the common application form to applicants. The objective of the SAP Portal is to increase public access to confidential data for the purposes of evidence building and reduce the burden of applying for confidential data, which currently involves separate processes with each of the federal statistical agencies and units.

Data collected, accessed, or acquired by statistical agencies and units is vital for developing evidence on conditions, characteristics, and behaviors of the public and on the operations and outcomes of public programs and policies. This evidence can benefit the stakeholders in the programs, the broader public, as well as policymakers and program managers at the local, State, Tribal, and National levels. The many benefits of access to data for evidence building notwithstanding, the process of discovering confidential data, applying for access, and, in certain cases, revising an application or appealing an adverse determination through the SAP Portal still places a burden on the public, as outlined below.

The SAP Policy: At the recommendation of the ICSP, the SAP Policy establishes the SAP to be implemented by statistical agencies and units and incorporates directives from the Evidence Act. The policy is intended to provide guidance as to the application and review processes using the SAP Portal, setting forth clear standards that enable statistical agencies and units to implement a common application form and a uniform review process. The methods of collection outlined below are in accordance with the SAP Policy. The SAP Policy was submitted to the public for comment in January 2022 (87 FR 2459, 2022). The policy is currently under review and has not yet been finalized.

For the purpose of the SAP Policy, the application process begins with an applicant discovering a confidential data asset for which a statistical agency or unit is accepting applications to access for the purpose of building evidence and ends with the agency or unit's determination on whether to grant access. In the case of an adverse determination, the application process ends with the conclusion of an appeals process if the applicant elects to appeal the determination.

The SAP Portal: The SAP Portal is an application interface connecting applicants seeking data with a catalog of data assets owned by the federal statistical agencies and units. The SAP Portal is not a new data repository or warehouse; confidential data assets will continue to be stored in secure data access facilities owned and hosted by the federal statistical agencies and units. The Portal will provide a streamlined application process across agencies, reducing redundancies in the application process. This single SAP Portal will improve the process for applicants, tracking and communicating the application process throughout its lifecycle. This reduces redundancies and burden on applicants that request access to data from multiple agencies. The SAP Portal will automate key tasks to save resources and time, and will bring agencies into compliance with the Evidence Act statutory requirements.

Data Discovery: Individuals begin the process of accessing restricted use data by discovering confidential data assets through the SAP data catalog, maintained by federal statistical agencies at www.researchdatagov.org. Potential applicants can search by agency, topic, or keyword to identify data of interest or relevance. Once they have identified data of interest, applicants can view metadata outlining the title, description or abstract, scope and coverage, and detailed methodology related to a specific data asset to determine its relevance to their research.

While statistical agencies and units shall endeavor to include metadata in the SAP data catalog on all confidential data assets for which they accept applications, it may not be feasible to include metadata for some data assets (e.g., potential curated versions of administrative data). A statistical agency or unit may still accept an application through the SAP Policy even if the requested data asset is not listed in the SAP data catalog.

SAP Application Process: Individuals who have identified and wish to access confidential data assets will be able to apply for access through the SAP Portal when it is released to the public in late 2022. Applicants must create an account and follow all steps to complete the application. Applicants begin by entering their personal, contact, and institutional information, as well as the personal, contact, and institutional information of all individuals on their research team. Applicants proceed to provide summary information about their proposed project, to include project title, duration, funding, timeline, and other details including the data asset(s) they are requesting and any proposed linkages to data not listed in the SAP data catalog, including non-federal data sources. Applicants then proceed to enter detailed information regarding their proposed project, including a project abstract, research question(s), literature review, project scope, research methodology, project products, and anticipated output. Applicants must demonstrate a need for confidential data, outlining why their research question cannot be answered using publicly available information.

Submission for Review: Upon submission of their application, applicants will receive a notification that their application has been received and is under review by the data-owning agency or agencies (in the event where data assets are requested from multiple agencies). At this point, applicants will also be notified that application approval does not alone grant access to confidential data, and that, if approved, applicants must comply with the data-owning agency's security requirements outside of the SAP Portal, which may include a background check.

In accordance with the Evidence Act and the direction of the ICSP, agencies will approve or reject an application within a prompt timeframe. In some cases, agencies may determine that additional clarity, information, or modification is needed and request the applicant to “revise and resubmit” their application. This is also in accordance with the SAP Policy, which was submitted to the public for comment in January 2022 (87 FR 2459, 2022). The policy is currently under review and has not yet been finalized.

Appeals Process: In the event of an adverse determination, the applicant will be provided justification through the SAP Portal detailing the determination. The SAP Portal will provide the applicant with the option to submit an appeal for reconsideration by the data-owning agency or agencies. Applicants can also file an appeal for noncompliance with SAP Policy.

Access to Restricted Use Data: In the event of a positive determination, the applicant will be notified that their proposal has been accepted. The positive or final adverse determination concludes the SAP Portal process. In the instance of a positive determination, the data-owning agency (or agencies) will contact the applicant to provide instructions on the agency's security requirements that must be completed to gain access to the confidential data. The completion and submission of the agency's security requirements will take place outside of the SAP Portal and is therefore not included in the estimate of burden below.

Estimate of Burden: The amount of time to complete an application within the SAP Portal may vary depending on the number of individuals on the application, the topic of the proposal, and the data assets being requested. To request access to NCSES data assets, it is estimated that the average time to complete and submit an application within the SAP Portal is 60 minutes. This estimate includes the time needed to complete the SAP Portal application fields (applicant information and research proposal); it does not include an estimate of the time needed to develop a research proposal itself. The research proposal is developed outside of the SAP Portal and may be written for multiple audiences (e.g., to solicit funding); therefore, it is not included in the estimate of burden for the SAP Portal.

The expected number of applications submitted to NCSES in a given year may vary. Overall, NCSES estimates it may receive 20 application submissions within the SAP Portal per year. NCSES estimates that the total burden for the SAP Portal over the course of the three-year OMB clearance will be about 60 hours and, as a result, an average annual burden of 20 hours.

Dated: August 26, 2022.
Suzanne H. Plimpton,
Reports Clearance Officer, National Science Foundation.

[FR Doc. 2022-18847 Filed 8-31-22; 8:45 am]

BILLING CODE 7555-01-P